FEDERAL RETIREMENT THRIFT INVESTMENT BOARD

Sunshine Act Notice

Time and Date: 9 a.m. (EDT),

Place: 4th Floor, Conference Room, 1250 H Street, NW., Washington, DC

STATUS: Parts will be open to the public and parts closed to the public.

Matters To Be Considered:

Parts Open to the Public

1. Approval of minutes of June 16, 2003, Board member meeting.

2. Executive Director's report.

3. Status of new record keeping system.

Parts Closed to the Public

4. Discussion of personnel matters (closed portion of meeting).

5. Discussion of pending litigation (closed portion of meeting).

6. Discussion of draft request for proposals for audit services (closed portion of meeting).

FOR FURTHER INFORMATION CONTACT: Thomas J. Trabucco, Director, Office of External Affairs, (202) 942-1640.

Dated: July 9, 2003.
Elizabeth S. Woodruff,
Secretary to the Board, Federal Retirement Thrift Investment Board.

[FR Doc. 03-17749 Filed 7-9-03; 2:15 pm]

BILLING CODE 6760-01-M